DEPARTMENT OF THE INTERIOR

Fish and Wildlife Service

Notice of Intent To Prepare a Comprehensive Conservation Plan and Environmental Impact Statement for the Rocky Flats National Wildlife Refuge, Golden, CO

AGENCY: Fish and Wildlife Service, Interior.

ACTION: Notice of intent.

SUMMARY: This notice advises that the U.S. Fish and Wildlife Service (Service) intends to gather information necessary to prepare a Comprehensive Conservation Plan (CCP) and Environmental Impact Statement (EIS) pursuant to the National Environmental Policy Act (NEPA) and its implementing regulations.

A CCP will be prepared for the future Rocky Flats National Wildlife Refuge (NWR) located in Jefferson County, Colorado. The purpose of the CCP is to describe the future conditions of the Rocky Flats NWR and provide long-term guidance and management direction to achieve the refuge's purpose and restore its ecological integrity.

In the EIS, the Service will describe and evaluate a range of reasonable alternatives and the anticipated impacts of each. This information will be used in the draft CCP for the Rocky Flats NWR. The Service is furnishing this Notice in compliance with Service CCP policy to advise other agencies and the public of its intentions and to obtain suggestions and information on the scope of issues to be considered in the planning process.

DATES: Public scoping meetings will be held in surrounding communities in September 2002. Written scoping comments must be received by October 31, 2002.

ADDRESSES: Comments and inquiries should be directed to Rocky Flats NWR Comprehensive Conservation Plan, Attn: Laurie Shannon, Planning Team Leader, Rocky Mountain Arsenal NWR, Building 111, Commerce City, Colorado 80022. Comments also may be mailed electronically to rockyflats@fws.gov. The Draft and Final CCP, Draft and Final EIS, Record of Decision, and final rule will be available for viewing and downloading at http://rockyflats.fws.gov/.

FOR FURTHER INFORMATION CONTACT: Laurie Shannon, Planning Team Leader (see address above) at (303) 289-0980, or Fax (303) 289-0579.

SUPPLEMENTARY INFORMATION: The Service has initiated Comprehensive Conservation Planning for the future Rocky Flats NWR in Jefferson County, Colorado. Each national wildlife refuge has specific purposes for which it was established and for which legislation was enacted. Those purposes are used to develop and prioritize management goals and objectives within the National Wildlife Refuge System mission and to guide those public uses proposed for the Refuge. The planning process is a way for the Service and the public to evaluate management goals and objectives for the best possible conservation of this important wildlife habitat, while providing for wildlife-dependent recreation opportunities that are compatible with each Refuge's establishing purposes and the mission of the National Wildlife Refuge System. The Rocky Flats National Wildlife Refuge Act of 2001 mandates that the refuge will be managed for the purposes of: (1) Restoring and preserving native ecosystems; (2) providing habitat for, and population management of, native plants and migratory and resident wildlife; (3) conserving threatened and endangered and candidate species under the Endangered Species Act of 1973; and 4) providing opportunities for compatible scientific research.

The Federal Government acquired 2,519 acres of the 6,300-acre Rocky Flats site in 1951 for use as a nuclear weapons production facility. The remaining acreage was acquired in 1974-1976. In 1992, the mission of the Rocky Flats site changed to site cleanup and closure in a manner that is safe, environmentally and socially responsible, physically secure, and cost-effective. The majority of the site has generally remained undisturbed since its acquisition, and provides habitat for many wildlife species, including a resident, federal-listed threatened species. Within the site is a rare xeric tallgrass prairie plant community. Establishing the site as a unit of the National Wildlife Refuge System will promote the preservation and enhancement of its natural resources for present and future generations.

By Federal law, all lands within the National Wildlife Refuge System are to be managed in accordance with an approved CCP. A CCP describes the desired future conditions of the refuge and provides long-range guidance and management direction to accomplish the purposes of the refuge, contribute to the mission of the National Wildlife Refuge System, and meet other relevant mandates. The planning process will consider many elements including habitat and wildlife management, wildlife-dependent recreation opportunities, environmental education, and other wildlife-dependent uses. Public input into this process is essential. The Service is requesting input for issues, concerns, ideas, and suggestions for the future management of Rocky Flats NWR. Anyone interested in providing input is invited to respond to the following three questions:

(1) What makes the Rocky Flats NWR special or unique to you?

(2) What problems or issues do you want to see addressed in the CCP?

(3) What are your recommendations for future management of Rocky Flats NWR?

The above questions were designed to stimulate thinking about Rocky Flats and its future management. The Service invites any relevant comments or ideas and does not require that participants provide any specific information. Comments received by the planning team will be used as part of the planning process.

An opportunity will be given to the public to provide input at public meeting to scope issues and concerns. These public scoping meetings will be held in nearby communities in September 2002. The meetings will take place in facilities meeting accessibility requirements outlined in the Americans with Disabilities Act. Citizens with disabilities that may require accommodation to participate in or to understand the meeting, should contact Laurie Shannon, Refuge Planner, U.S. Fish & Wildlife Service at (303) 289-0980 at least one week in advance so arrangements for accommodations can be made. Comments also may be submitted anytime during the planning process by writing to the above addresses.

The environmental review of this project will be conducted in accordance with the requirements of the National Environmental Policy Act of 1969, as amended (42 U.S.C. 4321 et seq.), NEPA Regulations (40 CFR 1500-1508), and other appropriate Federal laws and regulations, and Service policies and procedures for compliance with those regulations. All comments received from individuals on Service EISs become part of the official public record. Requests for such comments will be handled in accordance with the Freedom of Information Act, NEPA (40 CFR 1506.6(f)), and other Departmental and Service policy and procedures. When requested, the Service generally will provide comment letters with the names and addresses of the individuals who wrote the comments. However, the telephone number of the commenting individual will not be provided in response to such requests to the extent permissible by law. Additionally, public comment letters are not required to contain the commenter's name, address, or any other identifying information.

Dated: July 31, 2002.
John A. Blankenship,
Acting Regional Director, Region 6, Denver, Colorado.

[FR Doc. 02-21505 Filed 8-22-02; 8:45 am]

BILLING CODE 4310-55-P